DEPARTMENT OF HOUSING AND URBAN DEVELOPMENT

[Docket No. FR-4971-N-43]

Notice of Submission of Proposed Information Collection to OMB; Request for Credit Approval of Substitute Mortgagor

AGENCY: Office of the Chief Information Officer, HUD.

ACTION: Notice.

SUMMARY: The proposed information collection requirement described below has been submitted to the Office of Management and Budget (OMB) for review, as required by the Paperwork Reduction Act. The Department is soliciting public comments on the subject proposal.

A buyer may assume an FHA-insured mortgage by becoming the substitute mortgagor through the credit approval process. Prior to releasing a seller from liability on the mortgage note or for mortgages after December 15, 1989, HUD or a Direct Endorsement (DE) lender must review the credit of the assumer and record the approval.

DATES: Comments Due Date: October 17, 2005.

ADDRESSES: Interested persons are invited to submit comments regarding this proposal. Comments should refer to the proposal by name and/or OMB approval Number (2502-0036) and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; or Lillian Deitzer at Lillian_L_Deitzer@HUD.gov or telephone (202) 708-2374. This is not a toll-free number. Copies of available documents submitted to OMB may be obtained from Mr. Eddins or Ms. Deitzer or from HUD's Web site at http://hlannwp031.hud.gov/po/i/icbts/collectionsearch.cfm.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Request for Credit Approval of Substitute Mortgagor.

OMB Approval Number: 2502-0036.

Form Numbers: HUD-92210, HUD-92210.1.

Description of the Need for the Information and Its Proposed Use: A buyer may assume an FHA-insured mortgage by becoming the substitute mortgagor through the credit approval process. Prior to releasing a seller from liability on the mortgage note or for mortgages after December 15, 1989, HUD or a Direct Endorsement (DE) lender must review the credit of the assumer and record the approval.

Frequency of Submission: On occasion.

| Number of respondents | Annual responses | × | Hours per response | = | Burden hours
Reporting Burden: | 600 | 4 |  | 1 |  | 2,400

Total Estimated Burden Hours: 2,400.

Status: Extension of a currently approval collection.

Authority: Section 3507 of the Paperwork Reduction Act of 1995, 44 U.S.C. 35, as amended.

Dated: September 12, 2005.
Donna L. Eden,
Director, Office of Policy and E-Government, Office of the Chief Information Officer.

[FR Doc. E5-5030 Filed 9-15-05; 8:45 am]

BILLING CODE 4210-27-P